Title 3—

The President

Proclamation 7684 of June 6, 2003

Flag Day and National Flag Week, 2003

By the President of the United States of America

A Proclamation

Each year, we set aside June 14 to commemorate the day in 1777 when the Continental Congress adopted the Stars and Stripes as the official flag of our Republic. With this act, the Congress declared that we were one Nation, under one flag, united for the cause of liberty and justice for all.

As a symbol of our patriotism, the American flag continues to invoke pride and resolve among our people, especially when we see it next to a headstone, on the masts of our military ships, worn by the generations of Americans who have proudly served our country, or emerging from the wreckage caused by a natural or manmade disaster. Flying over public buildings, monuments, schools, and homes, our flag is testament to the ideals of American democracy.

Through the years, millions of immigrants have come to our shores seeking to share in the promise of freedom represented by our flag. From war-torn Europe, to the mountains of Afghanistan, to the deserts of Iraq, the flag and those who carry it are universally recognized as harbingers of liberation, justice, and peace. Regardless of circumstance, our flag endures as a sign of hope.

On Flag Day, we look to the red, white, and blue as a symbol of our commitment to advancing the universal hope of liberty and justice for all. Old Glory abounds in the landscape of our daily lives, reminding us of the freedom we share. The 50 stars and 13 stripes are not just a random pattern, they symbolize the blessings of liberty we enjoy as Americans.

To commemorate the adoption of our flag, the Congress, by joint resolution approved August 3, 1949, as amended (63 Stat. 492), designated June 14 of each year as “Flag Day” and requested that the President issue an annual proclamation calling for its observance and for the display of the Flag of the United States on all Federal Government buildings. The Congress also requested, by joint resolution approved June 9, 1966, as amended (80 Stat. 194), that the President issue annually a proclamation designating the week in which June 14 occurs as “National Flag Week” and calling upon all citizens of the United States to display the flag during that week.

NOW, THEREFORE, I, GEORGE W. BUSH, President of the United States of America, do hereby proclaim June 14, 2003, as Flag Day and the week beginning June 8, 2003, as National Flag Week. I direct the appropriate officials to display the flag on all Federal Government buildings during that week, and I urge all Americans to observe Flag Day and National Flag Week by flying the Stars and Stripes from their homes and other suitable places. I also call upon the people of the United States to observe with pride and all due ceremony those days from Flag Day through Independence Day, also set aside by the Congress (89 Stat. 211), as a time to honor America, to celebrate our heritage in public gatherings and activities, and to publicly recite the Pledge of Allegiance to the Flag of the United States of America.

IN WITNESS WHEREOF, I have hereunto set my hand this sixth day of June, in the year of our Lord two thousand three, and of the Independence of the United States of America the two hundred and twenty-seventh.

B

[FR Doc. 03-14907

Filed 6-10-03; 8:45 am]

Billing code 3195-01-P